DEPARTMENT OF HEALTH AND HUMAN SERVICES

Office of the Secretary

45 CFR Part 73

RIN 0991-AC40

Standards of Conduct; Revocation of Superseded Regulations; Revision of Residual Provisions; Correction

AGENCY: Office of the Secretary (OS), Department of Health and Human Services (HHS).

ACTION: Final rule; correction.

SUMMARY: OS is correcting a final rule that was published in the Federal Register on August 22, 2025, with an effective date of October 21, 2025. The Standards of Conduct Final Rule revises, republishes, and renumbers, as needed, the sections of part 73 that have not been superseded and continue to be important to the efficient functioning of the Department to ensure they are consistent with current law and Department policy or procedures. It includes required provisions related to counter-trafficking in persons and removes all superseded and obsolete provisions, including parts 73a and 73b, in their entirety.

DATES: Effective October 21, 2025.

FOR FURTHER INFORMATION CONTACT: Glenn R. Hancock, Office of General Counsel, Department of Health and Human Services, Washington, DC, (202) 690-7258 or Glenn.Hancock@hhs.gov.

SUPPLEMENTARY INFORMATION: In the final rule published August 22, 2025, there was a technical error that is now identified and corrected in this document. The provisions in this correction document are effective as if they had been included in the document published August 26, 2025. Accordingly, the following correction is effective October 21, 2025.

In FR Doc. 2025-16129, appearing on page 40981 in the Federal Register of August 22, 2025, the following correction is made:

§ 73.303 [Corrected]

1. On page 90 FR 40981, in the first column, in § 73.303, following the introductory text, redesignate paragraphs (1), (2), and (3) as (a), (b), and (c).

Cortney L. McCormick,
Executive Secretary to the Department, Department of Health and Human Services.

[FR Doc. 2025-17237 Filed 9-5-25; 8:45 am]

BILLING CODE 4150-26-P